DEPARTMENT OF VETERANS AFFAIRS

[OMB Control No. 2900-0090]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before September 14, 2006.

For Further Information or a Copy of the Submission Contact: Denise McLamb, Records Management Service (005G2), Department of Veterans Affairs, 810 Vermont Avenue, NW., Washington, DC 20420, (202) 565-8374, FAX (202) 565-70458 or E-mail to: denise.mclamb@mail.va.gov. Please refer to “OMB Control No. 2900-0090.”

Send comments and recommendations concerning any aspect of the information collection to VA's OMB Desk Officer, OMB Human Resources and Housing Branch, New Executive Office Building, Room 10235, Washington, DC 20503, (202) 395-7316. Please refer to “OMB Control No. 2900-0090” in any correspondence.

SUPPLEMENTARY INFORMATION: Title: Application for Voluntary Service, VA Form 10-7055.

OMB Control Number: 2900-0090.

Type of Review: Extension of a currently approved collection.

Abstract: Individuals expressing interest in volunteering at a VA medical center complete VA Form 10-7055 to request placement in the nationwide VA Voluntary Service Program. VA will use the data collected to place applicants in assignments most suitable to their special skills and abilities.

An agency may not conduct or sponsor, and a person is not required to respond to a collection of information unless it displays a currently valid OMB control number. The Federal Register Notice with a 60-day comment period soliciting comments on this collection of information was published on April 6, 2006 at pages 17562-17563.

Affected Public: Individuals or households, not-for-profit institutions.

Estimated Total Annual Burden: 8,000 hours.

Estimated Average Burden Per Respondent: 15 minutes.

Frequency of Response: One-time.

Estimated Number of Respondents: 32,000.

Dated: August 7, 2006.
By direction of the Secretary.
Denise McLamb,
Program Analyst, Records Management Service.

[FR Doc. E6-13292 Filed 8-14-06; 8:45 am]

BILLING CODE 8320-01-P